DEPARTMENT OF LABOR

Employment and Training Administration

[NAFTA—6198]

General Electric Company, Motors Division, Transformer Division, Fort Wayne, IN; Notice of Termination of Investigation

Pursuant to Title V of the North American Free Trade Agreement Implementation Act (Pub. L. 103-182) concerning transitional adjustment assistance, hereinafter called NAFTA-TAA and in accordance with section 250(a), subchapter D, chapter 2, Title II, of the Trade Act of 1974, as amended (19 U.S.C. 2331), an investigation was initiated on May 13, 2002, in response to a worker petition which was filed by the IUE-CWA, Local 901, on behalf of workers at General Electric Company, Motors Division, Transformer Division, Fort Wayne, Indiana.

Currently, an active certification covering the petitioning group of workers remains in effect NAFTA #5034. Consequently further investigation in this case would serve no purpose, and the investigation has been terminated.

Signed in Washington, DC, this 16th day of July, 2002.
Linda G. Poole,
Certifying Officer, Division of Trade Adjustment Assistance.

[FR Doc. 02-19092 Filed 7-26-02; 8:45 am]

BILLING CODE 4510-30-P